DEPARTMENT OF COMMERCE

National Oceanic and Atmospheric Administration

50 CFR Part 223

[Docket No. 070122014-7057-02, I.D. 011907A]

RIN 0648-AV04

Endangered and Threatened Wildlife; Sea Turtle Conservation Requirements

AGENCY: National Marine Fisheries Service (NMFS), National Oceanic and Atmospheric Administration (NOAA), Commerce.

ACTION: Advance notice of proposed rulemaking; extension of public comment period.

SUMMARY: In response to requests from members of the public, NMFS extends the public comment period on an advance notice of proposed rulemaking (ANPR) regarding potential amendments to regulatory requirements for turtle excluder devices (TEDs) for an additional 60 days, through May 18, 2007, for the purpose of receiving comments on the ANPR, published in the Federal Register on February 15, 2007.

DATES: Comments will be accepted through May 18, 2007.

ADDRESSES: Written comments on the ANPR and requests for literature cited should be addressed to Michael Barnette, Southeast Regional Office, Office of Protected Resources, NMFS, 263 13th Avenue South, St. Petersburg, FL 33701. Comments may also be sent via fax to 727-824-5309, via email to 0648-AV04@noaa.gov, or to the Federal eRulemaking portal: http://www.regulations.gov (follow instructions for submitting comments).

FOR FURTHER INFORMATION CONTACT: Michael Barnette (ph. 727-824-5312, fax 727-824-5309, e-mail Michael.Barnette@noaa.gov), Ellen Keane (ph. 978-281-9300 x6526, fax 978-281-9394, e-mail Ellen.Keane@noaa.gov), or Tanya Dobrzynski(ph. 301-713-2322, fax (301) 427-2522, e-mail Tanya.Dobrzynski@noaa.gov).

SUPPLEMENTARY INFORMATION:

Background

On February 15, 2007, NMFS published an ANPR regarding potential amendments to the regulatory requirements for TEDs (72 FR 7382). The ANPR announced that NMFS is considering amendments to the regulatory requirements for TEDs. Specific changes NMFS is considering include increasing the size of the TED escape opening currently required in the summer flounder fishery; requiring the use of TEDs in the flynet, whelk, calico scallop, and Mid-Atlantic sea scallop trawl fisheries; and moving the current northern boundary of the Summer Flounder Fishery-Sea Turtle Protection Area off Cape Charles, Virginia, to a point farther north. Other potential measures are also being considered. The objective of the proposed measures would be to effectively protect all life stages and species of sea turtle in Atlantic and Gulf of Mexico trawl fisheries where they are vulnerable to incidental capture and mortality. NMFS is seeking public comment on these potential amendments to the TED regulations. NMFS is also soliciting public comment on the need for, and development and implementation of, other methods to reduce bycatch of sea turtles in any commercial or recreational fishery in the Atlantic and Gulf of Mexico where sea turtle conservation measures do not currently exist. That Federal Register notice initiated a 30-day public comment period scheduled to end on March 19, 2007.

NMFS subsequently received requests from the public to extend the comment period. These requests stated that more time is necessary to more fully review and provide comments on issues mentioned in the ANPR. In this document NMFS is extending the public comment period for an additional 60 days, until May 18, 2007, to allow additional time for these requesters and other interested parties to provide comments.

Dated: March 13, 2007.
Samuel D. Rauch III,
Deputy Assistant Administrator for Regulatory Programs, National Marine Fisheries Service.

[FR Doc. E7-4884 Filed 3-16-07; 8:45 am]

BILLING CODE 3510-22-P